DEPARTMENT OF LABOR

Employment and Training Administration

[TA-W-51,295]

Evening Vision Dresses, Ltd, Also Doing Business as Evening Vision Limited, Evening Visions Apparel, Ltd, New York, NY; Amended Certification Regarding Eligibility To Apply for Worker Adjustment Assistance

In accordance with section 223 of the Trade Act of 1974 (19 U.S.C. 2273) the Department of Labor issued a Certification of Eligibility to Apply for Worker Adjustment Assistance on April 9, 2003, applicable to workers of Evening Vision Dresses, LTD located in New York, New York. The notice was published in the Federal Register on April 24, 2003 (68 FR 20177).

At the request of the State Agency, the Department reviewed the certification for workers of the subject firm. The workers produce dresses. The review shows that the subject firm also does business under Evening Vision Limited and Evening Vision Dresses at the same New York, New York location.

It is the Department's intent to include all workers of Evening Vision Dresses, LTD, New York, New York, adversely affected by increased imports. Therefore, the Department is amending the certification to include workers whose Unemployment Insurance (UI) wages were reported to Evening Vision Limited and Evening Vision Dresses.

The amended notice applicable to TA-W-51,295 is hereby issued as follows:

All workers of Evening Vision Dresses, LTD, Evening Vision Limited, and Evening Vision Dresses, New York, New York, who became totally or partially separated from employment on or after March 20, 2002, through April 9, 2005, are eligible to apply for adjustment assistance under section 223 of the Trade Act of 1974.

Signed at Washington, DC, this 30th day of June 2003.
Elliott S. Kushner,
Certifying Officer, Division of Trade Adjustment Assistance.

[FR Doc. 03-17829 Filed 7-14-03; 8:45 am]

BILLING CODE 4510-30-P